DEPARTMENT OF THE INTERIOR

Bureau of Land Management

[CA 180-1150 BS]

Notice of Emergency Closure of Public Lands in Amador County, CA

AGENCY: Bureau of Land Management, Interior.

ACTION: Notice.

SUMMARY: Notice is hereby given that certain access roads and certain areas are temporarily closed to all public entry that could result in the spread of Phytophthora cinnamomi, a fungus related to the one responsible for sudden oak death, to uninfected stands of Ione and whiteleaf manzanita as well as to other susceptible plants including natives and ornamentals. These activities include motor vehicle operation and foot traffic.

DATES: The closure will take effect on October 27, 2004 and continue until further notice.

FOR FURTHER INFORMATION CONTACT: Deane Swickard, Folsom Field Office Manager, 63 Natoma Street, Folsom, California 95630, telephone (916) 985-4474.

SUPPLEMENTARY INFORMATION: Phytophthora cinnamomi is a root and crown fungus that attacks Ione manzanita (Archtostaphylos myrtifolia) and whiteleaf manzanita (Archtostaphylos viscida). The Ione manzanita is listed as threatened under the Endangered Species Act, and occurs in Amador and Calaveras Counties, California. Infected stands of these species experience rapid desiccation and mortality at the onset of hot weather. Phytophthora cinnamomi is primarily spread by humans driving or walking through infested areas, and then into non-infested areas.

The closed area is the Ione Manzanita Area of Critical Environmental Concern (ACEC), and portions of nearby public lands portions in which the Ione manzanita occurs, a total of about 240 acres. Legal descriptions of the closed areas are:

T.5 N, R.10 E, M.D.B. & M.;

Sec. 32, NE ¼ SE ¼, SW ¼ SE ¼, E ½ SE ¼;

Sec. 33, SW ¼ NW ¼, NW ¼ SW ¼.

T.7 N, R.9 E, M.D.B. & M.;

Sec. 28, S ½ SE ¼ SW ¼;

Sec. 33, NW ¼ NE ¼.

Closure signs will be posted at main entry points to this area. Maps of the closure area may be obtained from the Folsom Field Office, 63 Natoma Street, Folsom, California, 95630. Phone: (916) 985-4474.

Under the authority of 43 CFR 8364.1(a), the Bureau of Land Management will enforce the closure of the infested lands to prevent the spread of the fungus to uninfested stands of the federally threatened Ione manzanita and other susceptible vegetation. Official vehicles, including fire or law enforcement, are exempt from the emergency order. Currently, there is no legal public access to the subject lands. The only people affected by the emergency closure order are adjacent property owners.

The authority for this closure is found under section 303(a) of the Federal Land Policy and Management Act of 1976 (43 CFR 8360.0-7). Any person who violates this closure may be tried before a United States Magistrate and fined no more than $1,000 or imprisoned for no more that 12 months, or both. Such violations may also be subject to the enhanced fines provided for by 18 U.S.C. 8571.

(Authority: 43 CFR 8364.1(a))
Dated: October 27, 2004.
D.K. Swickard,
Folsom Field Office Manager.

[FR Doc. 05-1594 Filed 1-27-05; 8:45 am]

BILLING CODE 4310-40-P